DEPARTMENT OF TRANSPORTATION

Federal Railroad Administration

[Docket No. FRA 2009-0001-N-11]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking approval of the following information collection activities. Before submitting these information collection requirements for clearance by the Office of Management and Budget (OMB), FRA is soliciting public comment on specific aspects of the activities identified below.

DATES: Comments must be received no later than July 20, 2009.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-New.” Alternatively, comments may be transmitted via facsimile to (202) 493-6216 or (202) 493-6497, or via e-mail to Mr. Brogan at robert.brogan@dot.gov, or to Ms. Jackson at nakia.jackson@dot.gov. Please refer to the assigned OMB control number and the title of the information collection in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to provide 60-days notice to the public for comment on information collection activities before seeking approval of such activities by OMB. 44 U.S.C. 3506(c)(2)(A); 5 CFR 1320.8(d)(1), 1320.10(e)(1), 1320.12(a). Specifically, FRA invites interested respondents to comment on the following summary of proposed information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the proposed information collection activities that FRA will submit for clearance by OMB as required under the PRA:

Title: Work Schedules and Sleep Patterns of Train Crews in Commuter Passenger Service.

OMB Control Number: 2130-New.

Abstract: The Railroad Safety Improvement Act of 2008 (RSIA), Public Law 110-432, grants the Federal Railroad Administration (FRA) the authority to prescribe regulations “* * * Governing the Hours of Service of Train Employees of Commuter and Intercity Passenger Railroad Carriers.” (§ 21109). This section of the law provides that:

Such regulations and orders may address railroad operating and scheduling practices, including unscheduled duty calls, communications during time off duty, and time spent waiting for deadhead transportation or in deadhead transportation from a duty assignment to the place of final release, that could affect employee fatigue and railroad safety.

Furthermore, the regulations shall consider

* * * scientific and medical research related to fatigue and fatigue abatement, railroad scheduling and operating practices that improve safety or reduce employee fatigue, a railroad's use of new or novel technology intended to reduce or eliminate human error, the variations in freight and passenger railroad scheduling practices and operating conditions, the variations in duties and operating conditions for employees subject to this chapter, a railroad's required or voluntary use of fatigue management plans covering employees subject to this chapter, and any other relevant factors.

The purpose of the research addressed under this proposed study is to provide FRA with the necessary information to meet the requirements of RSIA as noted above.

The proposed study has two primary purposes:

• To document and characterize the work/rest schedules and sleep patterns of train crews in commuter passenger service

• To examine the relationship between these schedules and level of alertness/fatigue for the individuals who work these schedules.

The intent is to report results in aggregate, not by railroad.

The study will seek to describe the work and sleep patterns for this group of railroad employees. It will also obtain subjective ratings from participants of their alertness/sleepiness on both work and non-work days. Data collection will be through the use of a daily diary or log as well as a brief background questionnaire for each participant. Analysis of the diary data will allow the FRA to assess whether or not there are any work-related fatigue issues. The proposed study will provide a defensible and definitive estimate of the work/rest cycle parameters and fatigue in this group of railroad employees that will inform FRA regulatory policy and action.

Form Number(s): FRA F 6180.130; FRA F 6180.131.

Affected Public: Railroad Employees.

Respondent Universe: 155 Individuals.

Frequency of Submission: On occasion.

Reporting Burden:

Form No. | Respondent universe (individuals) | Total annual responses | Average time per response (minutes) | Total annual burden hours
Background Data (Form FRA F 6180.130) | 155 | 155 | 15 | 39
Daily Log (FRA F 6180.131) | 155 | 2,170 | 10 | 362

Total Responses: 2,325.

Estimated Total Annual Burden: 401 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on May 18, 2009.
Kimberly Orben,
Director, Office of Financial Management, Federal Railroad Administration.

[FR Doc. E9-11925 Filed 5-20-09; 8:45 am]

BILLING CODE 4910-06-P